DEPARTMENT OF ENERGY

Federal Energy Regulatory Commission

Notice of Draft License Application and Preliminary Draft Environmental Assessment and Request for Preliminary Recommendations, Prescriptions, and Terms and Conditions

July 11, 2001.

Take notice that the following hydroelectric application has been filed with the Commission and is available for public inspection.

a. Type of Application: Subsequent License.

b. Project No.: 469.

c. Date Filed: July 5, 2001.

d. Applicant: Minnesota Power Inc.

e. Name of Project: Winton Hydroelectric Project.

f. Location: On the Kawishiwi River near the City of Ely, in Lake and St. Louis Counties, MN. The project occupies federal lands within the Superior National Forest.

g. Filed Pursuant to: Federal Power Act 16 U.S.C. 791(a)-825(r).

h. Applicant Contact: John Paulson, Minnesota Power, Inc., 30 West Superior Street, Duluth, MN 55802, jpaulson@mnpower.com, 218-722-5642, ext. 3569.

i. FERC Contact: Tom Dean, thomas.dean@ferc.fed.us, 202-219-2778.

j. Status of Project: With this notice the Commission is soliciting: (1) Preliminary recommendations, prescriptions, and terms and conditions on the Preliminary Draft Environmental Assessment (PDEA); and (2) comments on the Draft License Application.

k. Deadline for filing preliminary comments, recommendations, prescriptions, and terms and conditions: 60 days from the issuance date of this notice.

All comments on the Preliminary DEA and Draft License Application should be sent to the addresses noted above in Item h, with one copy filed with FERC at the following address: David P. Boergers, Secretary, Federal Energy Regulatory Commission, 888 First Street, NE., Washington, DC 20426. All comments must include the project name and number and bear the heading Preliminary Comments, Preliminary Recommendations, Preliminary Prescriptions, or Preliminary Terms and Conditions. Comments, protests and interventions may be filed electronically via the Internet in lieu of paper. See, 18 CFR 385.2001(a)(1)(iii) and the instructions on the Commission's web site under the “e-Filing” link.

l. A copy of the application is available for inspection and reproduction at the Commission's Public Reference and Files Maintenance Branch, located at 888 First Street, NE., Room 2-A, Washington, DC 20426, or by calling (202) 219-1371 and may also be viewed on the web at http://www.ferc.gov using the “RIMS” link, select “Docket#” and follow the instructions (call 202-208-2222 for assistance).

Minnesota Power Inc. has mailed notification to members of the collaborative team and interested parties of the filed PDEA and Draft License Application. Copies of these documents are also available from the internet at www.mnpower.com/wintonrelicensing or by calling the applicant contact identified in Item h above.

m. With this notice, we are initiating consultation with the Minnesota STATE HISTORIC PRESERVATION OFFICER (SHPO), as required by Section 106, National Historic Preservation Act, and the regulations of the Advisory Council on Historic Preservation, 36 CFR 800.4.

David P. Boergers,
Secretary.

[FR Doc. 01-17820 Filed 7-16-01; 8:45 am]

BILLING CODE 6717-01-P